DEPARTMENT OF LABOR

Employment and Training Administration

[TA-W-63,589]

Delfingen US, Inc. Formerly Known as M&Q Plastics Products Also Known as Safanou, Inc., San Antonio, Texas; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and a Negative Determination Regarding Eligibility to Apply for Alternative Trade Adjustment Assistance on July 16, 2008, applicable to workers of Delfingen US, Inc., San Antonio, Texas. The notice was published in the Federal Register on July 30, 2008 (73 FR 44283).

At the request of the State agency, the Department reviewed the certification for workers of the subject firm. The workers were engaged in employment related to the production of convoluted protective plastic covers for wire harnesses.

New information shows that in March 2008, Delfingen US, Inc. purchased M&Q Plastic Products. Currently some of the workers wages at the subject firm are being reported under several Unemployment Insurance (UI) tax accounts for Delfingen US, Inc., formerly known as M&Q Plastic Products, also known as Safanou, Inc.

Accordingly, the Department is amending this certification to properly reflect this matter.

The intent of the Department's certification is to include all workers of Delfingen US, Inc., formerly known as M&Q Plastic Products, also known as Safanou, Inc. who were adversely affected by a shift in production of convoluted protective plastic covers for wire harnesses to Mexico.

The amended notice applicable to TA-W-63,589 is hereby issued as follows:

“All workers of Delfingen US, Inc., formerly known as M&Q Plastic Products, also known as Safanou, Inc., San Antonio, Texas, who became totally or partially separated from employment on or after June 24, 2007, through July 16, 2010, are eligible to apply for adjustment assistance under Section 223 of the Trade Act of 1974.” I further determine that all workers of Delfingen US, Inc., formerly known as M&Q Plastic Products, also known as Safanou, Inc., San Antonio, Texas, are denied eligibility to apply for alternative trade adjustment assistance under Section 246 of the Trade Act of 1974.

Signed at Washington, DC, this 4th day of September 2008
Richard Church,
Certifying Officer, Division of Trade Adjustment Assistance.

[FR Doc. E8-21844 Filed 9-17-08; 8:45 am]

BILLING CODE 4510-FN-P